DEPARTMENT OF HEALTH AND HUMAN SERVICES

Office of the Secretary

Delegation of Authority

Notice is hereby given that I have delegated to the Administrator, Centers for Medicare & Medicaid Services (CMS) with authority to re-delegate, the authority under Title 31, Section 313(d)(1) and (2) of the United States Code (U.S.C.), as amended, to implement the coordination with the Secretary of the Treasury, and establish an arrangement with the Secretary of the Treasury, regarding the appropriate functions that the Federal Insurance Office (FIO) may perform relating to health insurance, as determined based on Section 2791 of the Public Health Service Act [42 U.S.C. 300gg-91], or relating to long-term care insurance.

I hereby affirm and ratify any actions taken by the Administrator, CMS, or other CMS officials, which involve the exercise of this authority prior to the effective date of this delegation.

This delegation of authority is effective immediately.

This delegation of authority may be re-delegated.

Authority: 31 U.S.C. 313

Dated: March 24, 2016.
Sylvia M. Burwell,
Secretary.

[FR Doc. 2016-08171 Filed 4-8-16; 8:45 am]

BILLING CODE 4150-03-P